POSTAL SERVICE

39 CFR Part 111

Extra Services Refund Time Limit

AGENCY: Postal Service™.

ACTION: Proposed rule; revision; additional comment period.

SUMMARY: The Postal Service is revising its pending proposal to amend Mailing Standards of the United States Postal Service, Domestic Mail Manual (DMM®) in subsection 604.9.2 to revise the time limit for extra service refunds.

DATES: Submit comments on or before February 8, 2021.

ADDRESSES: Mail or deliver written comments to the manager, Product Classification, U.S. Postal Service, 475 L'Enfant Plaza SW, Room 4446, Washington, DC 20260-5015. If sending comments by email, include the name and address of the commenter and send to PC Federal Register@usps.gov, with a subject line of “Extra Services Refund Time Limit”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Sheila Marano at (202) 268-4257, Adaisja Johnson at (202) 268-6724, or Garry Rodriguez at (202) 268-7281.

SUPPLEMENTARY INFORMATION: On May 14, 2020, the Postal Service published a notice of proposed rulemaking (85 FR 28917-28918) to revise the time limit for extra service refunds on all classes of mail except Priority Mail Express®. The Postal Service has elected to issue a second revised proposed rule that also includes revising the timelines for Priority Mail Express® with an extra service.

Currently, DMM Exhibit 604.9.2.1, Postage and Fees Refunds, provides that for Priority Mail Express with an extra service a customer must apply for an extra service refund no sooner than 10 days, or no later than 30 days, and for all other classes of mail with an extra service a customer must apply for an extra service refund no sooner than 10 days, or no later than 60 days, from the date the service was purchased.

Certain extra services (e.g., Certified Mail®) have workflow timelines that extend beyond the current 10-day limit to initially file for a refund. As a result, to meet the required workflow timelines for these extra services, and for consistency in application of the refund processes, the Postal Service is proposing to extend the current Priority Mail Express with an extra service timelines to no sooner than 30 days, or no later than 60 days. For all other classes of mail with an extra service, the 10-day time limit will be extended to a 30-day time limit before a customer can file for a refund.

We believe this proposed revision will provide customers with a more efficient process and a more consistent customer experience.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

List of Subjects in 39 CFR Part 111

Administrative practice and procedure, Postal Service.

PART 111—GENERAL INFORMATION ON POSTAL SERVICE

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.2 Postage and Fee Refunds

* * * * *

9.2.1 General Standards

* * * * *

Exhibit 9.2.1 Postage and Fees Refunds

Customers must apply for a refund within the time limits in the chart below.

Mail type or service | When to apply (from mailing date): No sooner than | When to apply (from mailing date): No later than
* * * * * * *
[Revise the text of the “Priority Mail Express with an Extra Service” line item to read as follows:]
Priority Mail Express with an Extra Service(s) (9.2.4h) | 30 days | 60 days.
* * * * * * *
[Revise the text of the “Extra Services” line item to read as follows:]
All other classes of mail with an Extra Service(s) (9.2.4h) | 30 days | 60 days.
* * * * * * *

9.2.4 Postage and Fee Refunds Not Available

Refunds are not made for the following:

* * * * *

[Revise the text of item h to read as follows:]

h. Fees paid for extra services, as allowed under 9.2.3, when refund request is made by the mailer less than 30 days, or more than 60 days, from the date the service was purchased, unless otherwise authorized by the manager, Revenue and Field Accounting (see 608.8.0 for address).

* * * * *

9.5 Priority Mail Express Postage and Fees Refunds

* * * * *

9.5.4 Conditions for Refund

A postage refund request, as allowed under 9.0, must be made within the timelines provided in Exhibit 9.2.1.

* * * * *

Ruth Stevenson,
Attorney, Federal Compliance.

[FR Doc. 2020-27802 Filed 1-6-21; 8:45 am]

BILLING CODE P